DEPARTMENT OF TRANSPORTATION

Federal Aviation Administration

Agency Information Collection Activities: Requests for Comments; Clearance of a Renewed Approval of Information Collection: Agricultural Aircraft Operator Certificate Application

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on February 8, 2018. The collection involves the submission of application FAA Form 8710-3 for the certification process. The information to be collected will be used to evaluate the operators' request to become certificated as an Agricultural Aircraft Operator.

DATES: Written comments should be submitted by May 31, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Barbara Hall at (940) 594-5913, or by email at: Barbara.L.Hall@faa.gov.

SUPPLEMENTARY INFORMATION:

OMB Control Number: 2120-0049.

Title: Agricultural Aircraft Operator Certificate Application.

Form Numbers: FAA Form 8710-3.

Type of Review: This pertains to a renewal of an existing information collection.

Background: The Federal Register Notice with a 60-day comment period soliciting comments on the following collection of information was published on February 8, 2018 (83 FR 5675). Application for a certificate is made on a form, and in a manner, prescribed by the Administrator. The FAA form 8710-3 may be obtained from an FAA Flight Standards District Office and filed with the FAA Flight Standards District Office that has jurisdiction over the area in which the applicant's home base of operations is located.

The information collected includes: Type of application, Operator's name/DBAs, telephone number, mailing address, physical address of the principal base of operations, chief pilot/designee name, airman certificate grade and number, rotorcraft make/model registration numbers to be used and load combinations requested.

Respondents: 200 respondents.

Frequency: Applicants submit the form once, for initial issuance, and any time the operator requires an amendment to the operating certificate.

Estimated Average Burden per Response: 30 minutes each for 137.1, 137.15, 137.17, and 137.51 and 137.71. 4.5 hours per response for recordkeeping requirements of 137.71.

Estimated Total Annual Burden: Total reporting requirements of 325 hours, and recordkeeping requirements of 9000 hours, for a total burden of 9325 hours.

Public comments invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Fort Worth, TX, on April 24, 2018.
Barbara Hall,
FAA Information Collection Clearance Officer, IT Enterprises Business Services Division, ASP-110.

[FR Doc. 2018-09086 Filed 4-30-18; 8:45 am]

BILLING CODE 4910-13-P